CONSUMER PRODUCT SAFETY COMMISSION

[Docket No. CPSC-2012-0030]

Proposed Extension of Approval of Information Collection; Comment Request—Testing and Recordkeeping Requirements for Carpets and Rugs

AGENCY: Consumer Product Safety Commission.

ACTION: Notice.

SUMMARY: As required by the Paperwork Reduction Act of 1995 (44 U.S.C. Chapter 35), the Consumer Product Safety Commission (Commission) requests comments on a proposed extension of approval, for a period of 3 years from the date of approval by the Office of Management and Budget (OMB), of information collection requirements for manufacturers and importers of carpets and rugs. The collection of information is in regulations implementing the Standard for the Surface Flammability of Carpets and Rugs (16 CFR part 1630) and the Standard for the Surface Flammability of Small Carpets and Rugs (16 CFR part 1631). These regulations establish requirements for testing and recordkeeping for manufacturers and importers who furnish guaranties or certificates for products subject to the carpet flammability standards. The Commission will consider all comments received in response to this notice before requesting an extension of approval of this collection of information from the OMB.

DATES: The Office of the Secretary must receive comments not later than August 7, 2012.

ADDRESSES: You may submit comments, identified by Docket No. CPSC-2012-0030, by any of the following methods:

Electronic Submissions

Submit electronic comments in the following way:

Federal eRulemaking Portal: http://www.regulations.gov. Follow the instructions for submitting comments. To ensure timely processing of comments, the Commission is no longer accepting comments submitted by electronic mail (email), except through www.regulations.gov.

Written Submissions

Submit written submissions in the following way:

Mail/Hand delivery/Courier (for paper, disk, or CD-ROM submissions), preferably in five copies, to: Office of the Secretary, Consumer Product Safety Commission, Room 502, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: For further information contact: Mary James, Office of Information and Technology Services, Consumer Product Safety Commission, 4330 East West Highway, Bethesda, MD 20814; (301) 504-7213, or by email to: mjames@cpsc.gov.

SUPPLEMENTARY INFORMATION:

A. The Standards

The Standard for the Surface Flammability of Carpets and Rugs, 16 CFR part 1630, and the Standard for the Surface Flammability of Small Carpets and Rugs, 16 CFR part 1631, were issued under section 4 of the Flammable Fabrics Act (FFA) (15 U.S.C. 1193) in 1970. The standards cover any type of finished product made in whole or in part of fabric or related material and intended for use as a floor covering in homes, offices, or other places of assembly or accommodation. The standards establish an acceptable level of flammability performance. Items must meet the requirements of the standards prior to distribution in commerce, and firms must issue a “General Certification of Conformity” (GCC) or “Children's Product Certificate” (CPC), certifying that the products meet all applicable product safety regulations. The GCC and CPC requirements are additional requirements imposed by the Consumer Product Safety Improvement Act (CPSIA), 15 U.S.C. 2063(g). The CPSIA also imposes a third party testing requirement for all consumer products, including carpets and rugs, subject to a consumer product safety rule or similar rule, ban, standard, or regulation under any other Act enforced by the Commission, that are primarily intended for children 12 years of age or younger. Every manufacturer (including an importer) or a private labeler of a children's carpet or rug must have its product tested for compliance to parts 1630 and 1631 and other applicable product safety rules by an accredited, CPSC-accepted third party laboratory. In addition to the standards, certain enforcement regulations (16 CFR 1630.31 and 1631.32) have been issued under section 5 of the FFA (15 U.S.C. 1194) to address reasonable and representative tests and the recordkeeping requirement. These rules specify the frequency of testing necessary to support the issuance of a guaranty of compliance under the FFA and the types of records that must be maintained to document this activity. Beginning in 2013, firms must also employ reasonable and representative testing programs in accordance with the CPSIA.

The OMB approved the collection of information in the regulations under control number 3041-0017. OMB's most recent extension of approval expires on August 31, 2012. The Commission now proposes to request an extension of approval for the collection of information in the regulations.

B. Estimated Burden

The Commission estimates that 120 firms are subject to the information collection requirements. These firms have elected to issue a guaranty of compliance with the FFA, or they are required to certify compliance of products intended for children under the CPSA (as amended by the CPSIA). The number of tests that a firm issuing a guaranty of compliance would be required to perform each year varies, depending upon the number of carpet styles and the annual volume of production. CPSC staff estimates that the average firm issuing a continuing guarantee under the FFA is required to conduct a maximum of 200 tests per year. The actual number of tests required by a given firm may vary from one to 200, depending upon the number of carpet styles and the annual production volume. For example, if a firm manufactures 100,000 linear yards of carpet each year, and it consistently has obtained passing test results, then only one test per year is required. For purposes of estimating burden, we have used the midpoint, 100 tests per year. The time required to conduct each test is estimated to be 2.5 hours, plus the time required to establish and maintain the test record. We estimate the total annualized cost/burden to respondents could be as high as 12,000 tests per year at 2.5 hours per test or 30,000 hours.

The annualized costs to respondents for the hour burden for collection of information is estimated to be as high as $1,837,200, using a mean hourly employer cost-per-hour-worked of $61.24 (Bureau of Labor Statistics (BLS): Total compensation rates for management, professional, and related occupations in private goods-producing industries, December 2011) (30,000 hours × $61.24).

The estimated annual cost to the federal government of the information and collection requirements is approximately $42,900. This sum includes three staff months expended for examination of the information in records required to be maintained by the enforcement rules. This estimate uses an average wage rate of $57.13 per hour (the equivalent of a GS-14 Step 5 employee), with an additional 30.2 percent added for benefits (BLS, Percentage of total compensation comprised by benefits for all civilian management, professional, and related employees, December 2011) or $82.56 per hour × 520 hours.

C. Request for Comments

The Commission solicits written comments from all interested persons about the proposed collection of information. The Commission specifically solicits information relevant to the following topics:

—Whether the collection of information described above is necessary for the proper performance of the Commission's functions, including whether the information would have practical utility;

—Whether the estimated burden of the proposed collection of information is accurate;

—Whether the quality, utility, and clarity of the information to be collected could be enhanced; and

—Whether the burden imposed by the collection of information could be minimized by use of automated, electronic, or other technological collection techniques, or other forms of information technology.

Dated: June 5, 2012.
Todd A. Stevenson,
Secretary, Consumer Product Safety Commission.

[FR Doc. 2012-13935 Filed 6-7-12; 8:45 am]

BILLING CODE 6355-01-P